DEPARTMENT OF HOMELAND SECURITY

Federal Emergency Management Agency

44 CFR Part 67

[Docket ID FEMA-2008-0020; Internal Agency Docket No. FEMA-B-1083]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 16, 2010.

ADDRESSES: The corresponding preliminary Flood Insurance Rate Map (FIRM) for the proposed BFEs for each community is available for inspection at the community's map repository. The respective addresses are listed in the table below.

You may submit comments, identified by Docket No. FEMA-B-1083, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Town of Ennis, Montana
Montana | Town of Ennis | Moores Creek | Approximately 5,450 feet downstream of 1st Street | None | +4915
|  |  | Approximately 650 feet upstream of Moores Creek Road | None | +5030
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Ennis
Maps are available for inspection at 328 West Main Street, Ennis, MT 59729.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Cross County, Arkansas, and Incorporated Areas
Cooper Creek | Approximately 1,100 feet upstream of State Highway 1 Business | None | +279 | Unincorporated Areas of Cross County.
| Approximately 0.58 mile upstream of State Highway 1 Business | None | +286
Turkey Creek | Approximately 400 feet upstream of State Highway 1 | None | +258 | Unincorporated Areas of Cross County.
| Just upstream of Gibbs Road | None | +259
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Cross County
Maps are available for inspection at 705 Union Avenue East, Room 4, Wynne, AR 72396.
Drew County, Arkansas, and Incorporated Areas
Tenmile Creek | Approximately 1,000 feet downstream of the Missouri Pacific Railroad | None | +208 | Unincorporated Areas of Drew County.
| Just downstream of Missouri Pacific Railroad | None | +212
Tenmile Tributary | Approximately 3,200 feet downstream of Ragland Avenue | None | +222 | City of Monticello, Unincorporated Areas of Drew County.
| Just downstream of Barkada Road | None | +236
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Monticello
Maps are available for inspection at 204 West Gains Street, Monticello, AR 71655.
Unincorporated Areas of Drew County
Maps are available for inspection at 210 South Main Street, Monticello, AR 71655.
Poinsett County, Arkansas, and Incorporated Areas
Left Hand Chute of Little River | At the confluence of St. Francis River | None | +212 | Unincorporated Areas of Poinsett County.
| Approximately 0.45 mile downstream of Leatherwood Lane | None | +216
| Approximately 1.02 mile downstream of State Highway 140 | None | +220
| Approximately 1,400 feet downstream of State Highway 140 | None | +223
St. Francis River | Approximately 0.73 mile downstream of Highway 63 | None | +211 | Unincorporated Areas of Poinsett County.
| At the confluence of Left Hand Chute of Little River | None | +212
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Poinsett County
Maps are available for inspection at the County Hall, Harrisburg, AR 72432.
Saline County, Arkansas, and Incorporated Areas
Hurricane Lake | Just downstream of Interstate 30 | None | +369 | City of Benton, Unincorporated Areas of Saline County.
| Approximately 0.41 mile downstream of Zuber Road | None | +410
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Benton
Maps are available for inspection at 114 South East Street, Benton, AR 72015.
Unincorporated Areas of Saline County
Maps are available for inspection at 200 North Main Street, Room 17, Benton, AR 72015.
Humboldt County, California, and Incorporated Areas
Redwood Creek (With all levees) | At the confluence with the Pacific Ocean | None | +10 | Unincorporated Areas of Humboldt County.
| Approximately 1.25 mile upstream of U.S. Highway 101 | None | +44
Redwood Creek (Without all levees) | At the confluence with the Pacific Ocean | None | +10 | Unincorporated Areas of Humboldt County.
| Approximately 1.25 mile upstream of U.S. Highway 101 | None | +42
Redwood Creek (Without all right levees) | At the confluence with the Pacific Ocean | None | +10 | Unincorporated Areas of Humboldt County.
| Approximately 1.25 mile upstream of U.S. Highway 101 | None | +43
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Humboldt County
Maps are available for inspection at the County Courthouse, 825 5th Street, Room 111, Eureka, CA 95501.
Oglethorpe County, Georgia, and Incorporated Areas
Oconee River | At the confluence of Falling Creek | None | +461 | Unincorporated Areas of Oglethorpe County.
| Approximately 0.4 mile upstream of the county boundary | None | +477
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Oglethorpe County
Maps are available for inspection at the Oglethorpe County Board of Commissioners Office, 341 West Main Street, Lexington, GA 30648.
Wilkinson County, Georgia, and Incorporated Areas
Little Commissioner Creek | Approximately 0.4 mile upstream of State Route 18 | None | +332 | Unincorporated Areas of Wilkinson County.
| Approximately 0.5 mile upstream of State Route 18 | None | +332
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Wilkinson County
Maps are available for inspection at the County Courthouse, 100 Bacon Street, Irwinton, GA 31042.
Bath County, Kentucky, and Incorporated Areas
Caney Creek (Backwater effects from Cave Run Lake) | From confluence with Cave Run Lake to approximately 0.6 mile upstream of the confluence with Cave Run Lake | None | +747 | Unincorporated Areas of Bath County.
Cave Run Lake | Entire shoreline of Cave Run Lake | None | +747 | Unincorporated Areas of Bath County.
Sulpher Branch (Backwater effects from Cave Run Lake) | From confluence with Cave Run Lake to 2,000 feet upstream of the confluence with Cave Run Lake | None | +747 | Unincorporated Areas of Bath County.
Trough Lick Branch (Backwater effects from Cave Run Lake) | From confluence with Cave Run Lake to 2,000 feet upstream of the confluence with Cave Run Lake | None | +747 | Unincorporated Areas of Bath County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Bath County
Maps are available for inspection at 19 East Main Street, Owingsville, KY 40360.
Pointe Coupee Parish, Louisiana, and Incorporated Areas
Bayou Fordoche | Approximately 0.47 mile downstream of Interstate 190 | None | +19 | Town of Livonia.
| Approximately 1.21 mile upstream of Interstate Highway 190 | None | +19
Bayou Fordoche | Approximately 0.54 mile downstream of Robinhood Road | None | +26 | Village of Fordoche.
| Approximately 900 feet downstream of Robinhood Road | None | +27
False Bayou | Just upstream of Texas and Union Railroad | +29 | +23 | Unincorporated Areas of Pointe Coupee Parish.
| Approximately 1,500 feet upstream of Texas and Union Railroad | +29 | +27
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Livonia
Maps are available for inspection at the Pointe Coupee Police Jury, 160 East Main Street, New Roads, LA 70760.
Unincorporated Areas of Pointe Coupee Parish
Maps are available for inspection at the Pointe Coupee Police Jury, 160 East Main Street, New Roads, LA 70760.
Village of Fordoche
Maps are available for inspection at the Pointe Coupee Police Jury, 160 East Main Street, New Roads, LA 70760.
Dorchester County, Maryland, and Incorporated Areas
Marshy Hope Creek | Approximately at the county boundary with Caroline County | None | +11 | Unincorporated Areas of Dorchester County.
| Approximately 250 feet downstream of the Town of Federalsburg corporate limits | None | +11
Wright's Branch | Approximately at Delaware Avenue | None | +35 | Unincorporated Areas of Dorchester County.
| Approximately 400 feet upstream of Andrews Street | None | +37
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Dorchester County
Maps are available for inspection at the County Office Building, 501 Court Lane, Cambridge, MD 21613.
Somerset County, Maryland, and Incorporated Areas
Loretta Branch | Approximately 125 feet downstream of Umes Boulevard | None | +5 | Unincorporated Areas of Somerset County.
| Approximately at the confluence with Manokin River and Manokin Branch | None | +5
Manokin Branch | Approximately at the confluence with Manokin River and Loretta Branch | None | +5 | Unincorporated Areas of Somerset County.
| Approximately 750 feet upstream of Broad Street | None | +5
Manokin River | Approximately 4,000 feet upstream of the confluence with Taylor Creek | None | +5 | Unincorporated Areas of Somerset County.
| Approximately at the crossing of Somerset Avenue | None | +5
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Somerset County
Maps are available for inspection at 319 West Main Street, Crisfield, MD 21817.
Prentiss County, Mississippi, and Incorporated Areas
Tennessee-Tombigbee Waterway (Bay Springs Lake) | Entire shoreline (within county) | None | +420 | Unincorporated Areas of Prentiss County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Prentiss County
Maps are available for inspection at the County Courthouse, 2301 North 2nd Street, Booneville, MS 38829.
Gallia County, Ohio, and Incorporated Areas
Campaign Creek (backwater effects from Ohio River) | Approximately 640 feet upstream of Bulaville Pike | None | +571 | Unincorporated Areas of Gallia County.
| Approximately 0.7 mile upstream of Bulaville Pike | None | +571
Clear Fork (backwater effects from Ohio River) | Confluence with Raccoon Creek | None | +566 | Unincorporated Areas of Gallia County.
| Approximately 0.6 mile downstream of State Route 141 | None | +566
Little Swan Creek (backwater effects from Ohio River) | Confluence with Swan Creek | None | +561 | Unincorporated Areas of Gallia County.
| Approximately 0.7 mile upstream of confluence with Swan Creek | None | +561
Raccoon Creek | Approximately 1.9 mile downstream of State Route 160 in the Village of Vinton | None | +605 | Unincorporated Areas of Gallia County, Village of Vinton.
| Approximately 0.8 mile upstream of State Route 160 in the Village of Vinton | None | +613
Raccoon Creek (backwater effects from Ohio River) | Approximately 0.6 mile upstream of Little Raccoon Creek's confluence with Raccoon Creek | None | +566 | Unincorporated Areas of Gallia County.
| Approximately 0.7 mile upstream of Lincoln Pike | None | +566
Swan Creek (backwater effects from Ohio River) | Approximately 1,020 feet downstream of Swan Creek Road | None | +561 | Unincorporated Areas of Gallia County.
| Approximately 1,360 feet downstream of Peters Branch Road | None | +561
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Gallia County
Maps are available for inspection at 111 Jackson Pike, Suite 1569, Gallipolis, OH 45631.
Village of Vinton
Maps are available for inspection at 111 Jackson Pike, Suite 1569, Gallipolis, OH 45631.
Le Flore County, Oklahoma, and Incorporated Areas
Caston Creek | Just upstream of the confluence with the Poteau River | None | +463 | Unincorporated Areas of Le Flore County.
| Approximately 500 feet upstream of the confluence with Mountain Creek | None | +470
Morris Creek | Approximately 200 feet downstream of Old Highway 59 | None | +469 | Town of Howe, Unincorporated Areas of Le Flore County.
| Approximately 830 feet downstream of County Road East 1425 | None | +492
Morris Tributary | Approximately 1,640 feet downstream of Highway 59 | None | +485 | Town of Howe, Unincorporated Areas of Le Flore County.
| Approximately 525 feet downstream of County Road East 1430 | None | +501
Mountain Creek | At the confluence with Caston Creek | None | +470 | Unincorporated Areas of Le Flore County.
| Approximately 600 feet upstream of Highway 270 | None | +483
Polk Creek | Approximately 0.6 mile downstream of Possum Valley Road | None | +443 | City of Poteau, Unincorporated Areas of Le Flore County.
| Just upstream of Polk Creek Road | None | +584
Poteau River | Flooding effects from the Poteau River extending just upstream of the San Francisco Railway | None | +448 | Unincorporated Areas of Le Flore County.
| Flooding effects from the Poteau River extending from 2.3 miles upstream of County Road East 1370 | None | +453
Town Creek North | Approximately 958 feet upstream of Witte Street | +454 | +453 | City of Poteau.
| Just upstream of Cavanal Scenic Expressway | None | +571
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Poteau
Maps are available for inspection at 111 Peters Street, Poteau, OK 74953.
Town of Howe
Maps are available for inspection at 21781 West Main Street, Howe, OK 74940.
Unincorporated Areas of Le Flore County
Maps are available for inspection at 100 South Broadway Street, Poteau, OK 74953.
Colorado County, Texas, and Incorporated Areas
Colorado River | Approximately 0.6 mile downstream of County Highway 122 | None | +139 | Unincorporated Areas of Colorado County, City of Columbus, City of Eagle Lake, Colorado County Water Control Improvement District No. 2.
| Just downstream of Burnham's Ferry Crossing | None | +223
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Columbus
Maps are available for inspection at 605 Spring Street, Columbus, TX 78934.
City of Eagle Lake
Maps are available for inspection at 400 Spring Street, Columbus, TX 78934.
Colorado County Water Control Improvement District No. 2
Maps are available for inspection at 400 Spring Street, Columbus, TX 78934.
Unincorporated Areas of Colorado County
Maps are available for inspection at 400 Spring Street, Columbus, TX 78934.
Dawson County, Texas, and Incorporated Areas
Sulphur Springs Draw | Just upstream of County Road L | None | +2924 | Unincorporated Areas of Dawson County.
| Just downstream of U.S. Highway 180 | None | +2950
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Dawson County
Maps are available for inspection at 400 South 1st Street, Lamesa, TX 79331.
Denton County, Texas, and Incorporated Areas
Cooper Creek | Approximately 570 feet downstream of the intersection of Cooper Creek and Mingo Road | +588 | +585 | City of Denton.
| Approximately 586 feet downstream of the intersection of Cooper Creek and East Sherman Drive | +630 | +628
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Denton
Maps are available for inspection at 215 East McKinney Street, Denton, TX 76201.
Duval County, Texas, and Incorporated Areas
San Diego Creek | Just upstream of Ventura Street | None | +296 | City of San Diego, Unincorporated Areas of Duval County.
| Just upstream of Julian Street | None | +304
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of San Diego
Maps are available for inspection at 404 South Meir Street, San Diego, TX 78384.
Unincorporated Areas of Duval County
Maps are available for inspection at 400 East Gravis Highway 44, San Diego, TX 78384.
Fannin County, Texas, and Incorporated Areas
Bois D'arc Creek | Approximately 1,400 feet upstream of State Highway 56 | None | +553 | Unincorporated Areas of Fannin County.
| Approximately 0.75 mile upstream of State Highway 56 | None | +554
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Fannin County
Maps are available for inspection at 101 East Sam Rayburn Drive, Bonham, TX 75418.
Hale County, Texas, and Incorporated Areas
Running Water Draw | Approximately 1,800 feet downstream of County Road Y | +3335 | +3337 | City of Plainview, Unincorporated Areas of Hale County.
| Approximately 500 feet upstream of U.S. Highway 70 | +3381 | +3382
Tributary A | Approximately 1,400 feet upstream of Business Loop Interstate 27 | +3378 | +3380 | City of Plainview, Unincorporated Areas of Hale County.
| Just upstream of County Road 60 | +3387 | +3388
Tributary to Running Water Draw | At the confluence with Running Water Draw | +3364 | +3365 | City of Plainview, Unincorporated Areas of Hale County.
| Playa C adjoining Interstate 27 | +3380 | +3381
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Plainview
Maps are available for inspection at 901 Broadway Street, Plainview, TX 79072.
Unincorporated Areas of Hale County
Maps are available for inspection at 500 Broadway Street, Plainview, TX 79072.
Wasatch County, Utah, and Incorporated Areas
Center Creek | At confluence with Surplus Canal | None | +5628 | City of Heber City, Town of Independence, Unincorporated Areas of Wasatch County.
| Approximately 2,914 feet upstream of the upper Center Creek Road crossing | None | +6573
Humbug Canal | At the confluence with Center Creek | None | +5685 | City of Heber City, Unincorporated Areas of Wasatch County.
| Approximately 566 feet upstream of 600 South Street | None | +5692
Lake Creek | At the diversion to South Lake Creek and North Lake Creek | None | +5860 | Unincorporated Areas of Wasatch County.
| Approximately 0.73 mile upstream of Lake Pines Drive | None | +6738
Lower Wasatch Canal | At Highway 189 | None | +5634 | City of Heber City, Unincorporated Areas of Wasatch County.
| Approximately 800 feet upstream of Mill Road | None | +5694
North Lake Creek | Approximately 800 feet upstream of Mill Road | None | +5694 | City of Heber City, Unincorporated Areas of Wasatch County.
| At the diversion from Lake Creek | None | +5860
Snake Creek | At confluence with Middle Provo River | None | +5422 | City of Midway, Unincorporated Areas of Wasatch County.
| Approximately 210 feet upstream of Warm Springs Road | None | +5760
South Lake Creek | Approximately 566 feet upstream of 600 South Street | None | +5692 | City of Heber City, Unincorporated Areas of Wasatch County.
| At the diversion from Lake Creek | None | +5860
Surplus Canal | At the confluence with the Middle Provo River | None | +5433 | City of Heber City, Unincorporated Areas of Wasatch County.
| At Highway 189 | None | +5634
Upper Provo River | Approximately 0.52 mile downstream of Highway 32 | None | +6186 | Unincorporated Areas of Wasatch County.
| Approximately 0.28 mile upstream of Moonlight Drive | None | +6426
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Heber City
Maps are available for inspection at 75 North Main Street, Heber City, UT 84032.
City of Midway
Maps are available for inspection at 75 North 100 West, Midway, UT 84032.
Town of Independence
Maps are available for inspection at 4530 East Center Creek Road, Heber City, UT 84032.
Unincorporated Areas of Wasatch County
Maps are available for inspection at 25 North Main Street, Heber City, UT 84032.
Barbour County, West Virginia, and Incorporated Areas
Tygart Valley River | Approximately 40 feet downstream of the confluence of Big Run | None | +1696 | Unincorporated Areas of Barbour County.
| Approximately 175 feet upstream of the confluence of Tributary No. 1 to Tygart Valley River | None | +1706
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Barbour County
Maps are available for inspection at the County Courthouse, 8 North Main Street, Philippi, WV 26416.
Upshur County, West Virginia, and Incorporated Areas
Brushy Fork (Backwater flooding from Buckhannon River) | Approximately at the confluence with Fink Run | None | +1415 | Unincorporated Areas of Upshur County.
| Approximately 700 feet upstream of County Route 7/1 (Left Branch of Brushy Fork) | None | +1415
Fink Run (Backwater flooding from Buckhannon River) | Just upstream of Old Weston Road | None | +1415 | Unincorporated Areas of Upshur County.
| Approximately 2,100 feet upstream of intersection of Old Weston Road and County Route 5/7 (Mudlick Run) | None | +1415
Unnamed Tributary No. 1 to Fink Run (Backwater flooding from Buckhannon River) | Approximately at the area bounded by U.S. Route 33, Wabash Avenue, and County Route 33/1 | None | +1415 | Unincorporated Areas of Upshur County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Upshur County
Maps are available for inspection at 38 West Main Street, Buckhannon, WV 26201.

(Catalog of Federal Domestic Assistance No. 97.022, “Flood Insurance.”)

Deborah S. Ingram,
Acting Deputy Assistant Administrator for Mitigation, Mitigation Directorate, Department of Homeland Security, Federal Emergency Management Agency.

[FR Doc. E9-29934 Filed 12-15-09; 8:45 am]

BILLING CODE 9110-12-P